DEPARTMENT OF THE INTERIOR

Bureau of Indian Affairs

Tribal Consultation on Proposed Revisions to 25 CFR Parts 81 & 82

AGENCY: Bureau of Indian Affairs, Interior.

ACTION: Notice of tribal consultation meetings; correction.

SUMMARY: The Bureau of Indian Affairs published a document in the Federal Register of November 12, 2009, concerning the notice of tribal consultation meetings. The document included the date of January 14, 2010 for the meeting scheduled at the Pala Casino Resort and Spa in Pala, California. This notice changes the date to February 2, 2010, and the location to the Pala Administration Building in Pala, California.

DATES: Effective Date: This correction is effective as of January 11, 2010.

FOR FURTHER INFORMATION CONTACT: Elizabeth Colliflower, Office of Tribal Services, 1849 C Street, NW., Mail Stop 4513-MIB, Washington, DC 20240; Telephone (202) 513-7641; Fax (202) 208-5113.

SUPPLEMENTARY INFORMATION: The Bureau of Indian Affairs published a document in the Federal Register of November 12, 2009 (74 FR 58310), concerning the notice of tribal consultation meetings on proposed revisions to 25 CFR parts 81 and 82. The document included the date of January 14, 2010 for the meeting scheduled at the Pala Casino Resort and Spa in Pala, California. This notice changes the date to February 2, 2010, and the location to the Pala Administration Building in Pala, California. In the Federal Register of November 12, 2009, in FR Doc. E9-27181, on page 58310, in the third column, correct the date “January 14, 2010,” to read: “February 2, 2010”. On page 58311, in the table, correct “January 14, 2010. * * * Pala Casino Resort and Spa, 11154 Hwy. 76, Pala, California 92059; Telephone: (877) 946-7252” to read “February 2, 2010. * * * Pala Administration Building, 12196 Pala Mission Rd., Pala, California 92059; Telephone: (760) 891-3500.” All other information in the table remains the same.

Dated: December 31, 2009.
Larry Echo Hawk,
Assistant Secretary—Indian Affairs.

[FR Doc. 2010-242 Filed 1-8-10; 8:45 am]

BILLING CODE 4310-4J-P